DEPARTMENT OF AGRICULTURE

Forest Service

Ashland Forest Resiliency, Rogue River—Siskiyou National Forest, Jackson County, Oregon

AGENCY: Forest Service, USDA.

ACTION: Notice of intent to prepare an Environmental Impact Statement.

SUMMARY: Pursuant to the provisions of section 102(2) of the National Environmental Policy Act (NEPA) of 1969 (42 USC 4332 (2)), the USDA, Forest Service is analyzing Ashland Forest Resiliency as an authorized hazardous fuels project under the Healthy Forests Restoration Act of 2003. Pursuant to Sections 103 and 104 of the Healthy Forests Restoration Act, the Ashland Ranger District of the Rogue River-Siskiyou National Forest will prepare an Environmental Impact Statement (EIS). The purpose of the EIS is to analyze and disclose the environmental effects associated with a Proposed Action that includes a suite of site specific proposals for implementing several types of hazardous fuel reduction actions designed to restore more fire resilient forests for the federally managed lands within the Upper Bear Analysis Area. This area includes the Ashland Municipal Watershed and is the subject of an integrated assessment of current conditions and recommendations for action (2003 Upper Bear Assessment). Site-specific actions being proposed are designed to “protect” human and ecosystem values from large scale, high intensity wildfire. Proposals are designed as comprehensive and landscape-level treatments over several decades.

The activities are proposed within portions of the Ashland Creek, Neil Creek, Hamilton Creek and Wagner Creek sub-watersheds of the Bear Creek watershed, located on lands administered by the Rogue River-Siskiyou National Forest, Ashland Ranger District, Jackson County, Oregon.

This proposal will tier to and be designed under the Final Environmental Impact Statement for the Rogue River National Forest Land and Resource Management Plan (LRMP, 1990), as amended by the Northwest Forest Plan (NWFP)(USDA Forest Service and USDI Bureau of Land Management 1994), which provides guidance for land management activities.

The Ashland Ranger District invites written comments concerning the scope of the analysis in addition to those comments that will be solicited as a result of local public participation activities. The Forest Service will also give notice of the full environmental analysis and decision making process so that interested and affected people are made aware as to how they may participate and contribute to the final decision.

DATES: Issues and comments concerning the scope and analysis of this proposal must be received by April 30, 2004.

ADDRESSES: Submit written comments regarding this proposal to District Ranger, Ashland Ranger District, 645 Washington Street, Ashland, Oregon, 97520; FAX (541) 552-2922 or electronically to comments_pacificnorthwest_rogueriver_ashland@fs.fed.us.

FOR FURTHER INFORMATION CONTACT: Direct questions about this proposal and EIS to Chuck Anderson, Interdisciplinary Team Leader, Rogue River—Siskiyou National Forest, phone: (541) 858-2323, FAX: (541) 858-2330, e-mail: cjanderson02@fs.fed.us.

SUPPLEMENTARY INFORMATION: Under Ashland Forest Resiliency, only National Forest System lands would be treated. The legal description of the area being considered is T. 39 S., R. 1 E., in sections 17, 19, 20, 21, 25, 27, 28, 29, 30, 31, 32, 33, 34 and 35; T.40 S., R. 1 E., in sections 1, 2, 3, 4, 5, 6, 8, 9, 10, 11, 12, 13, 14, 15 and 17; T. 39 S., R 1 W., in sections 24, 25, 26, 34, 35 and 36; and T. 40 S., R. 1 W., section 1 and 2, W.M., Jackson County, Oregon. One of the primary goals for the Ashland Watershed is to “provide water for domestic supply” for the City of Ashland (RRNF LRMP page 4-265). Additional primary goals for the Watershed and the associated Upper Bear Analysis Area are “to protect and enhance conditions for late-successional and old-growth forest ecosystems, which serve as habitat for late-successional and old-growth related species including the northern spotted owl” (NWEP page C-11).

Purpose and Need for Action

The Need for the Proposed Action is for urgent reduction of large-scale, high intensity wildland fire in the Upper Bear Analysis Area. One hundred years of fire suppression and fuel accumulations in this forest's wildland/urban interface now presents high potential for large-scale, high intensity wildfires that could significantly interrupt the supply of clean water and late-successional and old growth forest ecosystems in this Analysis Area. The Purpose of the Proposed Action is to protect values at risk, reduce crown fire potential and obtain conditions that are more resilient to wildland fires.

For Ashland Forest Resiliency, the Proposed Action is based on a strategy resulting from the 2003 Upper Bear Assessment. It is an integrated package of connected actions designed to attain the stated Purpose and Need, while meeting Forest Plan Standards and Guidelines. There may be a need for Forest Plan amendment to ensure the ability to meet the Purpose and Need concurrent with attainment of Standards and Guidelines. A decision resulting from this NEPA analysis would also supplement the Rogue River-Siskiyou Fire Management Plan for the specific federally managed portions of the Upper Bear Analysis Area.

Proposed Action

The primary treatment proposals and prescriptions include those that would modify fire behavior during a wildland fire event. Although stand treatments cannot alter all variables that influence fire behavior, they can directly or indirectly influence species composition, available fuel, fuel arrangement, fuel moisture, and surface winds. Reasons to enact treatments (vegetation management and fuel reduction) that affect fire behavior can be categorized into two broad groups: (1) Treatments that modify fire behavior to facilitate effective fire suppression, and (2) treatments that modify fire behavior to reduce potential for large scale high intensity wildland fire and/or subsequent effects to soil, water, and late successional habitat.

Under Ashland Forest Resiliency, a total of approximately 8,150 acres are proposed to be treated. The first phase of the protection strategy for the Analysis Area and included under the Proposed Action is the concept of “compartmentalization”. This strategy involves the creation of Defensible Fuel Profile Zones (DFPZs) that integrate with existing shaded fuel breaks, to divide the Analysis Area into compartments. These compartments would be managed to eventually achieve the desired conditions with an overall objective of being able to contain any fire start (human or lightning) and subsequent fire within the compartment in which it started. DFPZs are a type of fuel break. The objective of the fuel modification within the DFPZ is to create large areas that are “crown-fire-resistant”. Active crown fires moving into these areas would drop to the ground and rely less on the suppression forces to be effective as compared to the current shaded fuel break system. Fires may still burn in these areas but intensities and stand and resource damage would be lower than before treatment. This technique is not the same as the shaded fuel break strategy that has been previously implemented in the Ashland Watershed. The DFPZs proposed for Ashland Forest Resiliency are designed to: Reduce wildland fire intensity in treated areas by limiting the amount of area affected by wildland fire; create areas where fire suppression efforts can be conducted more safely and effectively; break up the continuity of fuels over a large landscape; and become anchor lines for further area-wide fuel treatment, such as prescribed burning. To develop DFPZs, surface fuel reduction and understory vegetation clearing would occur over wider expanses than the current shaded fuel breaks. The width of treated areas would generally be ¼ to ½ mile, with variations in the widths depending on vegetation cover, roads, geographic features, strategic location, elevation, and overall potential risk. The completed DFPZs would consist mostly of stands that would maintain a closed canopy (>60% canopy closure of dominant and co-dominant trees). Cutting and disposing of generally smaller diameter trees would primarily accomplish this, although larger trees may also be part of the treatment. This treatment would remove the majority of the existing ladder fuels. Pruning would remove remaining ladder fuels and raise the height-to-live-crown to 20-25 feet to directly affect fire behavior. Reasons for maintaining a mostly closed canopy include: maintain higher fuel moistures; reduce brush and grass growth; reduce maintenance intervals; and maintain future options for vegetation and fuels management. The DFPZs as designed for this compartmentalization strategy would not be uniform even-aged areas, but would encompass a wide variety in ages, sizes, and distribution of trees. The key feature would be the general openness of the understory and discontinuity of ladder fuels and ground fuels, producing a low probability of sustained crown fire. Also included in these DFPZs would be strategically placed safety zones for fire management personnel. Continued maintenance of these areas is an important component to the effectiveness of this strategy. The DFPZs and compartmentalization phase of the Proposed Action are the highest priority in that they would strategically “compartmentalize” any fire. Based on current vegetative conditions (as measured by seral stage condition), approximately 2,800 acres would be treated at this time to implement the entire DFPZ strategy.

As part of the overall strategy, priority areas within certain “compartments” would be treated using a combination of variable density management treatments and fuel hazard reduction treatments, including prescribed fire. Treatments within the compartments would be aimed at having a “fire safe” forest as described in the 2003 Assessment. Efforts would be focused on modifying the existing stand density and current/future surface fuel loads so that: (1) Wildland fires are primarily ground fires (as compared with running crown-fires); (2) fires would generate less than 4 foot flame lengths from ground fire under the 90th percentile of weather conditions; and (3) large woody material would be maintained to levels consistent with Forest Plan objectives.

The second phase would include the treatment of those compartments outside the Ashland Municipal Watershed that serve to protect or reduce the chance of a fire entering the Watershed. Within six designated compartments on National Forest, there are approximately 3,200 acres that are either in late-closed or mid-closed forest seral conditions. In order to attain the approximate desired seral stage distributions, approximately 50% of these acres or 1,600 acres are proposed for treatment with variable density management, including treatment of all slash. The majority of the variable density management treatments would target the mid-closed seral conditions. The remaining 50% (1,600 acres) would receive fuel hazard reduction treatments such as underburning, pruning along roads, hand piling and burning. This would move these critical compartments toward the desired fuel models. Under this phase, no other existing seral stages would receive treatment (outside of DFPZs).

The third phase would be to treat those compartments within and outside the Ashland Municipal Watershed that currently provide late-successional habitat conditions that can be managed to maintain these conditions. Because of their location, there are certain areas where late-successional habitat is most important and higher numbers of late-successional dependant species currently exist. Treatments proposed here focus on reducing the risk to late-successional habitat by treating approximately 600 acres of dense mid seral stands in a way that would break-up contiguous fuels. Proposed treatments would primarily be density management to reduce fire hazard and to encourage healthy forested stands that would grow into late seral stages. Treatments to additionally reduce fire risk include treatment of roadside areas (about 100-150 feet below roads and 50 feet above roads), with variable density management (about 250 acres). Under this phase, no other existing seral stages would receive treatment (outside of DFPZs).

The final phase of proposed vegetation treatments focuses on the Ashland Research Natural Area (RNA). Within the RNA, the conservation of large ponderosa pine, and pine species in general is the primary objective. This diversity of species is the reason the RNA was established. Within approximately 1,300 acres of the RNA, treatments would reduce hazardous fuels along with selective removal of competition to large pine and Douglas fir and/or create conditions that would encourage regeneration of the pine species. Treatments would primarily include variable density management with some small group selection to favor pine, and fuel reduction treatments, most likely underburning. There would also be some slashing of smaller diameter less-favored species and jackpot burning. Additional protection of the RNA and its diversity values would be provided under this strategy with creation of the DFPZs outside of the RNA (200 feet from existing road centerlines when adjacent to the RNA). Prescribed and routine maintenance underburning is proposed after density management treatments as a complimentary method that would encourage more natural regeneration of pines and sustain the pine ecosystem.

Depending on the location of areas being treated, as well as implementation methodology, additional facilities such as helicopter log landings from some density management treatments may be needed. These landings would be integrated into DFPZ and associated with existing roads and designated safety zones. There may also be need for the construction of access roads to the additional landings. Any new road segments are likely to be short spurs, located primarily on ridge top areas, and temporary. As the Proposed Action is fully developed, there may be additional connected activities that pertain to road management and/or watershed restoration.

Fire exclusion is not a goal of this strategy. The use of widland fire for resource benefits is not appropriate at this time due to the large build up of live and dead vegetation resulting from fire suppression. A lightning ignited wildland fire would occur when soil and fuel moistures are low and have a high probability of escaping management suppression resulting in a large-scale, high intensity fire.

There are various tools proposed for use to implement the strategy described above. These tools include variable density management, prescribed fire, and various vegetation modification treatments.

Variable density management involves the selective removal of some trees within a forested stand to increase spacing and accelerate growth in the crowns and root systems of the remaining trees. Density management is used to improve forest health of stands, to open the forest canopy for selected trees, to accelerate growth to maintain desired seral conditions, or to attain late-successional characteristics for biological diversity. Stands proposed to receive this treatment are generally over-dense, with high crown density and ladder fuels. Variable density refers to a non-uniform pattern for remaining trees, which would emulate more natural conditions, as opposed to more uniform residual stocking or a specified basal area or number of trees per acre traditionally utilized in growth and yield forestry on lands allocated to timber production.

A complementary treatment to variable density management includes the application of controlled (or prescribed) fire, termed underburning. Prescribed fire would be used to regulate the existing fuel profile and to create more of a mosaic of fuel loadings and canopy closures. Prescribed burning can result in a range of effects given a diversity of site conditions influencing fire intensity. Flame lengths, fire duration, age of vegetation, species, ladder fuels and condition of overstory vegetation would all determine the degree of overstory mortality. Some overstory mortality is expected.

Vegetation modification includes various methods such as slashing, hand piling of down material (and subsequent burning of piles), pruning trees along high risk areas to reduce ladder fuels, and jackpot, hand pile and burning or chipping of resultant slash material. This method is most appropriate for small areas with high risk. Prescribed fire and vegetation modification methods can be used in combination and/or in conjunction with variable density management. These methods can be used to dispose of slash created as a result of other treatment activities or as initial treatments on current stand conditions. For any activity that results in slash, slash would be treated.

Alternatives

Alternatives to the Proposed Action will include No-Action as required by NEPA. One additional alternative may be considered in detail in accordance with the Healthy Forests Restoration Act.

This notice of intent initiates the scoping process under NEPA, which will guide the development of the draft EIS. The draft EIS is expected to be filed with the Environmental Protection Agency (EPA) and to be available for public comment by June 2004. The comment period for the draft EIS will be 45 days from the date EPA publishes the Notice of Availability in the Federal Register.

At the end of this period, comments submitted to the Forest Service, including names and addresses of those who responded, will be considered part of the public record for this proposal, and as such will be available for public review. Comments submitted anonymously will be accepted and considered; however, those who submit anonymous comments will not have standing to the Objection Process under the 36 CFR part 218. This Objection Process is a pre-decisional administrative review for the public to seek administrative consideration as provided for under the Healthy Forests Restoration Act (HR-1904); the regulations at 36 CFR 215 do not apply.

Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

The Forest Service believes, at this early stage, it is important to give reviewers notice of several court rulings related to public participiation in the environmental review process. First, reviewers of draft EISs must structure their participation in the environmental review of the proposal so that it is meaningful and alerts an agency to the reviewer's position and contentions. Vermont Yankee Nuclear Power Corp. v. NRDC, 435 U.S. 519, 533 (1978). Also, environmental objections that could be raised at the draft EIS stage, but that are not raised until completion of the final EIS, may be waived or dismissed by the courts. City Angoon v. Hodel, 803 F. 2d 1016, 1022 (9th Cir. 1986) and Wisconsin Heritages, Inc. v. Harris, 490 F. Supp. 1334, 1338 (E.D. Wis. 1980). Because of these court rulings, it is important that those interested in this proposed action participate by the close of the comment period so substantive comments and objections are made available to the Forest Service at a time when it can meaningfully consider them and respond to them in the final environmental impact statement.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

Comments on the draft EIS will be analyzed, considered, and responded to by the Forest Service in preparing the final EIS. The final EIS is scheduled to be completed in Fall of 2004.

The Forest Service Responsible Official is Scott D. Conroy, Forest Supervisor of the Rogue River-Siskiyou National Forest. The Responsible Official will consider the Final EIS, applicable laws, regulations, policies, and analysis files in making a decision. The Responsible Official will document the decision and rationale in the Record of Decision.

Dated: February 18, 2004.
Scott D. Conroy,
Forest Supervisor.

[FR Doc. 04-4099 Filed 2-24-04; 8:45 am]

BILLING CODE 3410-11-M